DEPARTMENT OF TRANSPORTATION

Federal Motor Carrier Safety Administration

49 CFR Parts 385, 386, 390, and 395

[Docket No. FMCSA-2004-19608]

RIN 2126-AB26

Hours of Service of Drivers

AGENCY: Federal Motor Carrier Safety Administration (FMCSA), DOT.

ACTION: Notice; availability of supplemental documents; reopening of comment period; correction.

SUMMARY: This document corrects the docket number referenced in the Addresses and Instructions paragraphs to a proposed rule's notice of availability of supplemental documents published in the Federal Register of May 9, 2011, regarding Hours of Service of Drivers. This correction replaces an incorrect docket number with the correct docket number for the public to submit comments to the reopened docket about the four additional documents and FMCSA's possible consideration of the studies' findings in the development of the final rule.

FOR FURTHER INFORMATION CONTACT: Mr. Thomas Yager, Chief, Driver and Carrier Operations Division, Federal Motor Carrier Safety Administration, U.S. Department of Transportation, 1200 New Jersey Avenue, SE., Washington, DC 20590, (202) 366-4325.

Correction

In the notice, FR Doc. 2011-11150, beginning on page 26681 in the issue of May 9, 2011, make the following corrections, in both the ADDRESSES and Instructions paragraphs. On page 26681 in the 3rd column in both places it appears, replace docket number “FMCSA-2011-0039” with docket number “FMCSA-2004-19608.”

Issued on: May 11, 2011.
Larry W. Minor,
Associate Administrator for Policy.

[FR Doc. 2011-11933 Filed 5-13-11; 8:45 am]

BILLING CODE 4910-EX-P